DEPARTMENT OF ENERGY

Federal Energy Regulatory Commission

Combined Notice of Filings #1

Take notice that the Commission received the following electric corporate filings:

Docket Numbers: EC14-14-000.

Applicants: NRG Energy Holdings, Inc., Edison Mission Energy.

Description: NRG Energy Holdings Inc. submits additional information concerning the application relating to the delivered price tests analyses pursuant to Appendix A of the Merger Policy Statement.

Filed Date: 12/11/13.

Accession Number: 20131212-0009.

Comments Due: 5 p.m. ET 1/2/14.

Take notice that the Commission received the following exempt wholesale generator filings:

Docket Numbers: EG14-17-000.

Applicants: RE Clearwater LLC.

Description: RE Clearwater LLC Notice of Self-Certification of Exempt Wholesale Generator Status.

Filed Date: 12/12/13.

Accession Number: 20131212-5151.

Comments Due: 5 p.m. ET 1/2/14.

Docket Numbers: EG14-18-000.

Applicants: RE Columbia Two LLC.

Description: RE Columbia Two LLC Notice of Self-Certification of Exempt Wholesale Generator Status.

Filed Date: 12/12/13.

Accession Number: 20131212-5155.

Comments Due: 5 p.m. ET 1/2/14.

Take notice that the Commission received the following electric rate filings:

Docket Numbers: ER10-2607-003; ER10-2626-002; ER10-2624-002.

Applicants: Old Dominion Electric Cooperative, Inc., New Dominion Energy Cooperative, TEC Trading, Inc.

Description: Triennial Market Power Update of the ODEC Entities under ER10-2607, et. al.

Filed Date: 12/13/13.

Accession Number: 20131213-5276.

Comments Due: 5 p.m. ET 2/11/14.

Docket Numbers: ER11-2664-007.

Applicants: Powerex Corp.

Description: Notice of Non-Material Change in Status of Powerex Corp.

Filed Date: 12/13/13.

Accession Number: 20131213-5278.

Comments Due: 5 p.m. ET 1/3/14.

Docket Numbers: ER13-630-000.

Applicants: Arizona Public Service Company.

Description: Arizona Public Service Company's Second Supplement to December 28, 2012 Triennial Market Power Update.

Filed Date: 12/11/13.

Accession Number: 20131211-5179.

Comments Due: 5 p.m. ET 1/2/14.

Docket Numbers: ER13-2295-002.

Applicants: Midcontinent Independent System Operator, Inc.

Description: 12-16-2013 TCDC Compliance Filing to be effective 11/1/2013.

Filed Date: 12/13/13.

Accession Number: 20131213-5244.

Comments Due: 5 p.m. ET 1/3/14.

Docket Numbers: ER14-612-001.

Applicants: Skylar Energy LP.

Description: Amendment to Skylar Petition to be effective 1/16/2014.

Filed Date: 12/13/13.

Accession Number: 20131213-5224.

Comments Due: 5 p.m. ET 1/3/14.

Docket Numbers: ER14-624-000.

Applicants: Midcontinent Independent System Operator, Inc.

Description: 12-16-2013 Cleco NITSA NOA Succession Filing to be effective 12/19/2013.

Filed Date: 12/13/13.

Accession Number: 20131213-5240.

Comments Due: 5 p.m. ET 1/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2013.
Nathaniel J. Davis, Sr.,
Deputy Secretary.

[FR Doc. 2013-30548 Filed 12-23-13; 8:45 am]

BILLING CODE 6717-01-P